DEPARTMENT OF THE INTERIOR

Fish and Wildlife Service

[FWS-R3-ES-2010-N077; 30120-1113-0000-F6]

Endangered and Threatened Wildlife and Plants; Permit Applications

AGENCY: Fish and Wildlife Service, Interior.

ACTION: Notice of availability of permit applications; request for comments.

SUMMARY: We, the U.S. Fish and Wildlife Service, invite the public to comment on the following applications to conduct certain activities with endangered species. With some exceptions, the Endangered Species Act (Act) prohibits activities with endangered and threatened species unless a Federal permit allows such activity. The Act requires that we invite public comment before issuing these permits.

DATES: We must receive any written comments on or before May 17, 2010.

ADDRESSES: Send written comments by U.S. mail to the Regional Director, Attn: Peter Fasbender, U.S. Fish and Wildlife Service, Ecological Services, 1 Federal Drive, Fort Snelling, MN 55111-4056; or by electronic mail to permitsR3ES@fws.gov.

FOR FURTHER INFORMATION CONTACT: Peter Fasbender, (612) 713-5343.

SUPPLEMENTARY INFORMATION:

Background

We invite public comment on the following permit applications for certain activities with endangered species authorized by section 10(a)(1)(A) of the Act (16 U.S.C. 1531 et seq.) and our regulations governing the taking of endangered species in the Code of Federal Regulations (CFR) at 50 CFR part 17. Submit your written data, comments, or request for a copy of the complete application to the address shown in ADDRESSES.

Permit Applications

Permit Application Number: TE06778A.

Applicant: U.S. Forest Service, Shawnee National Forest, Rod McClanahan, P.I., Vienna, Illinois.

The applicant requests a permit renewal/amendment to take (capture and release) Indiana bats (Myotis sodalis) and gray bats (Myotis grisescens) in the States of Indiana, Ohio, Illinois, and Missouri to document presence/absence and distribution of the species and to conduct habitat use assessments. Proposed activities involve capture, radio-tracking, and non-lethal tissue sampling for scientific research aimed at enhancement of survival of the species in the wild.

Permit Application Number: TE06795A.

Applicant: Field Museum of Natural History, Chicago, Illinois.

The applicant requests a permit renewal to salvage dead threatened and endangered species for scientific museum collections and public education/display. Salvage activities are proposed in Florida, Illinois, Indiana, Minnesota, and Wisconsin, in accordance with State regulations. Activities are proposed in the interest of conservation and recovery of the species through scientific study.

Permit Application Number: TE06797A.

Applicant: Rod D. McClanahan, Anna, Illinois.

The applicant requests a permit renewal to take (capture and release) Indiana bats, gray bats, Virginia big-eared bats (Corynorhinus townsendii virginianus), Ozark big-eared bat (Corynorhinus townsendii ingens), and Northern flying squirrel (Glaucomys sabrinus) throughout Alabama, Arkansas, Georgia, Illinois, Iowa, Kansas, Kentucky, Maryland, Massachusetts, Michigan, Mississippi, Missouri, New Hampshire, New Jersey, New York, North Carolina, Ohio, Oklahoma, Pennsylvania, Rhode Island, South Carolina,Vermont, Virginia, West Virginia, and Wisconsin. Proposed activities are to document presence/absence and distribution of the species and to conduct habitat use assessments. Activities involve capture, radio-tracking, tagging and non-lethal tissue sampling for scientific research aimed at enhancement of survival of the species in the wild.

Permit Application Number: TE06800A.

Applicant: Land Conservancy of West Michigan, Grand Rapids, Michigan.

The applicant requests a permit to take Karner blue butterflies (Lycaeides melissa samuelis) within the Maas Preserve, Kent County, Michigan. Proposed activities include presence/absence survey work and habitat management and restoration to increase habitat suitability for the butterfly. Proposed activities are aimed at enhancement of survival of the species in the wild.

Permit Application Number: TE809227.

Applicant: BHE Environmental, Inc., Cincinnati, Ohio.

The applicant requests a permit amendment to their permit related to authorized activities with Topeka shiner (Notropis topeka). The proposed amendment would authorize the applicant to temporarily relocate endangered Topeka shiners to protect them from impacts due to in-stream projects such as pipeline crossings. Proposed activities are aimed at enhancement of survival of the species in the wild.

Permit Application Number: TE06801A.

Applicant: Pittsburgh Wildlife & Environmental, Inc., McDonald, Pennsylvania.

The applicant requests a permit to take (capture and release; radio-track) Indiana bats and gray bats throughout the range of the species. Proposed activities include presence/absence surveys, hibernacula surveys, and radio-telemetry work to document habitat use. Proposed activities are aimed at enhancement of survival of the species in the wild.

Permit Application Number: TE06809A.

Applicant: U.S. Forest Service, Northern Research Station, Columbia, Missouri.

The applicant requests a permit renewal to take (capture and release) Indiana bats, gray bats, and Ozark big-eared bats throughout the State of Missouri. Proposed activities include presence/absence surveys, radio-telemetry, tagging using passive integrated transponders, and collection of blood/tissue samples for scientific analysis. Proposed activities are aimed at enhancement of survival of the species in the wild.

Permit Application Number: TE06720A.

Applicant: Russell A. Benedict, Pella, Iowa.

The applicant requests a permit renewal to take (capture and release) Indiana bats and gray bats throughout the States of Iowa, Illinois, and Missouri. Proposed activities include presence/absence surveys and radio-telemetry to document habitat use and inform project planning. Proposed activities are aimed at enhancement of survival of the species in the wild.

Permit Application Number: TE06822A.

Applicant: Upper Peninsula Land Conservancy, Marquette, Michigan.

The applicant requests a permit renewal to take (harass) Piping Plover (Charadrius melodus) within the Upper Peninsula, State of Michigan. Proposed activities include installing protective exclosures to preclude predation, nest monitoring, and salvage of abandoned chicks and/or eggs. Proposed activities are for the enhancement of survival of the species in the wild.

Permit Application Number: TE06841A.

Applicant: U.S. Fish and Wildlife Service, Ecological Services Field Office, (Dr. Mary Knapp), Columbus, Ohio.

The applicant requests a permit renewal to take (handle and release) American burying beetles (Nicrophorus americanus) within Muskingum County, Ohio, under a cooperative agreement with The Wilds, New Cumberland, Ohio. Beetles have been raised in captivity at authorized propagation facilities. Proposed activities include the handling, release, and follow-up surveys to determine the success of the release. Activities are proposed in the interest of species recovery and enhancement of survival of the species in the wild.

Permit Application Number: TE06843A.

Applicant: Andrew B. Kniowski, Columbus, Ohio.

The applicant requests a permit to take (capture and release; radio-track) Indiana bats throughout the range of the species in Alabama, Arkansas, Connecticut, Delaware, Georgia, Illinois, Indiana, Iowa, Kentucky, Maryland, Massachusetts, Michigan, Mississippi, Missouri, New Hampshire, New Jersey, New York, North Carolina, Ohio, Pennsylvania, Rhode Island, South Carolina, Tennessee, Vermont, Virginia, West Virginia, and Wisconsin. Proposed activities are aimed at enhancement of survival of the species in the wild.

Permit Application Number: TE06844A.

Applicant: U.S. Environmental Protection Agency, Region 7, Kansas City, Kansas.

The applicant requests a permit renewal to take (capture and release; salvage) the following unionid species: Curtis' pearlymussel (Epioblasma florentina curtisi), Pink mucket pearlymussel (Lampsilis orbiculata), Fat pocketbook (Potamilus capax), Scaleshell (Leptodea leptodon), Higgins' eye pearlymussel (Lampsilis higginsi), and Winged mapleleaf (Quadrula fragosa) in the State of Missouri. Proposed activities are for the enhancement of survival of the species in the wild.

Permit Application Number: TE06845A.

Applicant: Bernardin, Lochmueller, & Associates, Inc., Evansville, Indiana.

The applicant requests a permit renewal/amendment to take (capture and release) Indiana bats and gray bats throughout the State of Indiana to document presence/absence of the species and to conduct habitat use assessments. Proposed activities are aimed at enhancement of survival of the species in the wild.

Permit Application Number: TE06846A.

Applicant: Smithsonian Migratory Bird Center, Washington, DC.

The applicant requests a permit renewal to take (harass through capture and release, banding, collection of blood/tissue samples, and nest monitoring) Kirtland's warbler (Dendroica kirtlandii) throughout the State of Michigan. Proposed activities are aimed at enhancement of survival of the species in the wild.

Permit Application Number: TE07358A.

Applicant: Civil & Environmental Consultants, Inc., Columbus, Ohio.

The applicant requests a permit renewal/amendment to take (capture and release; radio-track) Indiana bats and gray bats throughout the range of the species in Alabama, Arkansas, Connecticut, Delaware, Georgia, Illinois, Indiana, Iowa, Kentucky, Maryland, Massachusetts, Michigan, Mississippi, Missouri, New Hampshire, New Jersey, New York, North Carolina, Ohio, Oklahoma, Pennsylvania, Rhode Island, South Carolina, Tennessee, Vermont, Virginia, West Virginia, and Wisconsin. Proposed activities are aimed at enhancement of survival of the species in the wild.

Permit Application Number: TE07361A.

Applicant: Nicholas L. Owens, Chicago, Illinois.

The applicant requests a permit renewal to take (capture and release; capture and relocate) the following unionid species: Fanshell (Cyprogenia stegaria), Pink mucket pearlymussel, Higgins' eye pearlymussel, Orangefoot pimpleback pearlymussel (Plethobasus cooperianus), Clubshell (Pleurobema clava), Fat pocketbook, Rough pigtoe (Pleurobema plenum), and Northern riffleshell (Epioblasma torulosa rangiana) in the States of Illinois, Indiana, and Iowa. Proposed activities are for the enhancement of survival of the species in the wild.

Permit Application Number: TE07730A.

Applicant: Redwing Ecological Services, Inc., Louisville, Kentucky.

The applicant requests a permit to take (capture, handle and release) the following species of mussels and fish: Cumberland Elktoe (Alasmidonta atropurpurea), Fanshell, Dromedary pearlymussel (Dromus dromas), Cumberlandian combshell (Epioblasma brevidens), Oyster Mussel (E. capsaeformis), Tan riffleshell (E. florentina walkeri), Catspaw (E. obliquata obliquata), White catspaw (E. obliquata perobliqua), Northern riffleshell, Tubercled Blossom (E. torulosa torulosa), Cracking pearlymussel (Hemistena lata), Pink mucket pearlymussel, Higgins' Eye pearlymussel, Scaleshell, Ring Pink (Obovaria retusa), Littlewing pearlymussel (Pegias fabula), White wartyback (Plethobasus cicatricosus), Orangefoot pimpleback, Clubshell, Rough pigtoe, Fat Pocketbook, Winged Mapleleaf, Cumberland Bean (Villosa trabalis), Palezone shiner (Notropis albizonatus), and Blackside dace (Phoxinus cumberlandensis). Proposed activities are requested within aquatic habitats in the States of Kentucky, Illinois, Indiana, Missouri, Iowa, Ohio, Wisconsin, Minnesota, Tennessee, Pennsylvania, and West Virginia. Proposed activities are to assess potential impacts to listed species and are aimed at enhancement of survival of the species in the wild.

Permit Application Number: TE08602A.

Applicant: University of Wisconsin, Stevens Point, Wisconsin.

The applicant requests a permit to take (harass) Karner blue butterflies within the State of Wisconsin for scientific research. Proposed activities may disturb adult and larval butterflies through presence of researchers observing and studying the relationship between larvae and ants. Proposed activities are aimed at enhancement of survival of the species in the wild.

Permit Application Number: TE08603A.

Applicant: Michelle Malcosky, Hudson, Ohio.

The applicant requests a permit to take (capture and release; radio-track) Indiana bats (Myotis sodalis) throughout the States of Illinois, Indiana, Kentucky, Michigan, Ohio, Pennsylvania, and West Virginia to document presence/absence of the species and to conduct habitat use assessments. Proposed activities are aimed at enhancement of survival of the species in the wild.

Permit Application Number: TE08604A.

Applicant: Stanley D. Gehrt, Columbus, Ohio.

The applicant requests a permit to take (capture and release; radio-track) Indiana bats throughout Ohio to document presence/absence of the species and to conduct habitat use assessments. Proposed activities are aimed at enhancement of survival of the species in the wild.

Public Comments

We seek public review and comments on these permit applications. Please refer to the permit number when you submit comments. Comments and materials we receive are available for public inspection, by appointment, during normal business hours at the address shown in the ADDRESSES section. Before including your address, phone number, e-mail address, or other personal identifying information in your comment, you should be aware that your entire comment—including your personal identifying information—may be made publicly available at any time. While you can ask us in your comment to withhold your personal identifying information from public review, we cannot guarantee that we will be able to do so.

National Environmental Policy Act (NEPA)

In compliance with NEPA (42 U.S.C. 4321 et seq.), we have made an initial determination that the proposed activities in these permits are categorically excluded from the requirement to prepare an environmental assessment or environmental impact statement (516 DM 6 Appendix 1, 1.4C(1)).

Dated: April 9, 2010.
Lynn M. Lewis,
Assistant Regional Director, Ecological Services, Region 3.

[FR Doc. 2010-8724 Filed 4-15-10; 8:45 am]

BILLING CODE 4310-55-P